DEPARTMENT OF COMMERCE

National Oceanic and Atmospheric Administration

Proposed Information Collection; Comment Request; Alaska Region Permit Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 25, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Kurt Iverson, (907) 586-7228 or kurt.iverson@noaa.gov.

SUPPLEMENTARY INFORMATION:

I. Abstract

This request is for extension of a current information collection.

For a person to participate in Federal fisheries, the National Marine Fisheries Service (NMFS) requires a Federal Fisheries Permit (FFP), a Federal Processor Permit (FPP), or an Exempted Fishing Permit (EFP). NMFS Alaska Region created a set of commercial fishing permits that operators of vessels and managers of processors must have on board or on site when fishing, receiving, buying, or processing groundfish and non-groundfish species. The permit information provides harvest gear types; descriptions of vessels, shoreside processors, and stationary floating processors; and expected fishery activity levels. These permits provide NMFS with a way to monitor participation in Federal fisheries.

Section 303(b)(1) of the Magnuson-Stevens Act specifically recognizes the need for permit issuance. The requirement of a permit for marine resource users is one of the regulatory steps taken to carry out conservation and management objectives. The issuance of a permit is an essential ingredient in the management of fishery resources needed for identification of the participants, expected activity levels, and for regulatory compliance (e.g., withholding of permit issuance pending collection of unpaid penalties).

II. Method of Collection

Respondents have a choice of either electronic or paper forms. Methods of submittal include mail and facsimile transmission.

III. Data

OMB Control Number: 0648-0206.

Form Number(s): None.

Type of Review: Regular submission (extension of a current information collection).

Affected Public: Business or other profit organizations; individuals or households.

Estimated Number of Respondents: 662.

Estimated Time Per Response: Federal Fisheries Permit, 21 minutes; Federal Processor Permit, 25 minutes; and Exempted Fishing Permit, 20 hours.

Estimated Total Annual Burden Hours: 319 hours.

Estimated Total Annual Cost to Public: $864 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 24, 2017.
Sarah Brabson,
NOAA PRA Clearance Officer.

[FR Doc. 2017-15813 Filed 7-26-17; 8:45 am]

BILLING CODE 3510-22-P